DEPARTMENT OF DEFENSE

Office of the Secretary

Public Meeting of the Defense Advisory Committee on Military Compensation

AGENCY: Department of Defense.

ACTION: Notice of meeting.

SUMMARY: On Tuesday, January 24, 2006, from 10 a.m. to 12 p.m., the Committee will discuss various aspects of the military pay and benefits system, such as compensation that recognizes danger, risk, and hardship that members experience; the appropriate balance between in-service and post-service compensation; the appropriate balance between cash and non-cash compensation; and the structure, level, and relevance of compensation for the Reserve and Guard, considering their changed utilization. Members of the Public may attend but participation in Committee discussions by the Public will not be permitted. Written submissions of data, information, and views may be sent to the Committee contact person at the address shown. Submissions should be received by close of business January 16, 2006 to allow time for distribution to the committee members prior to the meeting. Persons attending are advised that the Committee is not responsible for providing access to electrical outlets.

DATES: Tuesday, January 24, 2006, from 10 a.m. to 12 p.m.

Location: Crystal City Hilton, 2399 Jefferson Davis Highway, Arlington, VA 22202.

FOR FURTHER INFORMATION CONTACT: LTC Janet Fenton AT 703-699-2712, Designated Federal Official, Defense Advisory Committee on Military Compensation, 2521 S. Clark Street, Arlington, VA 22202.

Name of Committee: The Defense Advisory Committee on Military Compensation (DACMC).

Committee Membership: ADM (Ret) Donald L. Pilling. Members: Dr. John P. White; Gen (Ret) Lester L. Lyles; Mr. Frederic W. Cook; Dr. Walter Oi; Dr. Martin Anderson; and Mr. Joseph E. Jannotta.

General Function of the Committee: The Committee will provide the Secretary of Defense, through the Under Secretary of Defense (Personnel and Readiness), with assistance and advice on matters pertaining to military compensation. The Committee will examine what types of military compensation and benefits are the most effective for meeting the needs of the Nation.

Dated: December 22, 2005.
L.M. Bynum,
Alternate OSD Federal Register, Liaison Officer, Department of Defense.

[FR Doc. 05-24572 Filed 12-28-05; 8:45 am]

BILLING CODE 5001-06-M